DEPARTMENT OF THE INTERIOR

Bureau of Ocean Energy Management, Regulation and Enforcement

Outer Continental Shelf, Alaska OCS Region, Chukchi Sea Planning Area, Oil and Gas Lease Sale 193

AGENCY: Bureau of Ocean Energy Management, Regulation and Enforcement (BOEMRE), Interior.

ACTION: Notice of Availability of a Draft Supplemental Environmental Impact Statement (SEIS) and Notice of Public Hearings.

SUMMARY: The purpose of this SEIS (OCS EIS/EA BOEMRE 2010-034) is to provide new analysis in accordance with the United States (U.S.) District Court for the District of Alaska Order remanding the BOEMRE's Chukchi Sea Lease Sale 193 Final EIS (FEIS) (OCS EIS/EA MMS 2007-0026). The District Court's Order instructs the BOEMRE to address three concerns: (1) Analyze the environmental impact of natural gas development; (2) determine whether missing information identified by BOEMRE in the 193 FEIS was essential or relevant under 40 CFR 1502.22; and (3) “determine whether the cost of obtaining the missing information was exorbitant, or the means of doing so unknown.”

SUPPLEMENTARY INFORMATION: The FEIS for Chukchi Sea Lease Sale 193 (OCS EIS/EA MMS 2007-0026) evaluated the potential effects of the proposed sale and three alternatives: a no action alternative and two alternatives that incorporate deferral areas of varying size along the coastward edge of the proposed sale area.

Sale 193 was held in February of 2008. The BOEMRE received high bids totaling approximately $2.7 billion and issued 487 leases. Although the lease-sale decision was challenged in the U.S. District Court for the District of Alaska, the litigants did not request a preliminary injunction to halt the sale. Accordingly, the sale was conducted and 487 leases were issued. In July 2010, the District Court remanded the matter for further National Environmental Policy Act analysis of certain concerns. The BOEMRE is to address three concerns: (1) Analyze the environmental impact of natural gas development; (2) determine whether missing information identified by BOEMRE in the FEIS for Chukchi Sea Lease Sale 193 was essential or relevant under 40 CFR 1502.22; and (3) determine whether the cost of obtaining the missing information was exorbitant, or the means of doing so unknown.

The SEIS will provide the Secretary with sufficient information and analysis to make an informed decision amongst the alternatives. In effect, the Secretary will decide whether to affirm, modify, or cancel Sale 193. This notice relates solely to the Supplemental Draft EIS for Chukchi Sale 193. It does not preclude possible additional environmental analysis with regard to future leasing or permitting actions.

Draft Supplemental EIS Availability: To obtain a copy of the Draft SEIS, you may contact the Bureau of Ocean Energy Management, Regulation and Enforcement, Alaska OCS Region, 3801 Centerpoint Drive, Suite 500, Anchorage, Alaska 99503-5820, telephone 907-334-5200. You may also view the Draft SEIS at the above address, on the BOEMRE Web site at http://alaska.boemre.gov, or at the Alaska Resources Library and Information Service, 3211 Providence Drive, Suite 111, Anchorage.

Written Comments: Interested parties may submit their written comments on the Draft SEIS until November 29, 2010 to the Regional Director, Alaska OCS Region, Bureau of Ocean Energy Management, Regulation and Enforcement, 3801 Centerpoint Drive, Suite 500, Anchorage, Alaska 99503-5820. You may also hand deliver comments to this address. Comments should be labeled “Attn: Chukchi Sea Draft SEIS.” Comments may be submitted via e-mail at BOEMREAKPublicCommen@boemre.gov (Note: please use e-mail address exactly as it appears. Do not add the letter “t” or anything else to the address.). Please include “Attn: Chukchi Sea Draft SEIS” in the subject line, and your name and return address in the message. BOEMRE will not accept anonymous comments.

Be advised that your entire comment—including your personal identifying information—may be made publicly available at any time. While you may request us to withhold from public review your personal identifying information, we cannot guarantee that we will be able to do so.

Public Hearings: Public hearings on the Draft SEIS will be held as follows:

Monday, November 1, 2011, Kotzebue Middle/High School, Kotzebue, Alaska;

Tuesday, November 2, 2010, Oalgi Community Center, Point Hope, Alaska;

Wednesday, November 3, 2010, Point Lay Community Center, Point Lay, Alaska;

Thursday, November 4, 2010, Robert James Community Center, Wainwright, Alaska;

Friday, November 5, 2010, Inupiat Heritage Center, Barrow, Alaska;

Tuesday, November 9, 2010, 3800 Centerpoint Drive, Anchorage, Alaska.

All meetings will start at 7 p.m.

FOR FURTHER INFORMATION CONTACT: Bureau of Ocean Energy Management, Regulation and Enforcement, Alaska OCS Region, 3801 Centerpoint Drive, Suite 500, Anchorage, Alaska 99503-5820, 907-334-5200.

Dated: October 8, 2010.
Robert P. LaBelle,
Acting Associate Director for Offshore Energy and Minerals Management.

[FR Doc. 2010-25938 Filed 10-14-10; 8:45 am]

BILLING CODE 4310-MR-P